DEPARTMENT OF HOMELAND SECURITY

Coast Guard

33 CFR Part 165

[Docket Number USCG-2015-0187]

RIN 1625-AA00

Safety Zone; Sellwood Bridge Construction, Willamette River, Portland, OR

AGENCY: Coast Guard, DHS.

ACTION: Temporary final rule.

SUMMARY: The Coast Guard is establishing a safety zone in Portland, OR. This safety zone is necessary to ensure the safety of the maritime public and construction crews during construction of the Sellwood Bridge by prohibiting unauthorized persons and vessels from entering the regulated area unless authorized by the Sector Columbia River Captain of the Port or his designated representatives.

DATES: This rule is effective without actual notice from April 2, 2015 until June 10, 2015. For the purposes of enforcement, actual notice will be used from the date the rule was signed, March 19, 2015, through April 2, 2015.

ADDRESSES: Documents mentioned in this preamble are part of docket [USCG-2015-0187]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mr. Ken Lawrenson, Waterways Management Division, Marine Safety Unit Portland, Coast Guard; telephone 503-240-9319, email msupdxwwm@uscg.mil. If you have questions on viewing or submitting material to the docket, call Cheryl Collins, Program Manager, Docket Operations, telephone (202) 366-9826.

SUPPLEMENTARY INFORMATION:

Table of Acronyms

DHS Department of Homeland Security

FR Federal Register

TFR Temporary Final Rule

A. Regulatory History and Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest”. Under 5 U.S.C. 553(b)(B), the Coast Guard finds that good cause exists for not publishing a notice of proposed rulemaking (NPRM) with respect to this rule because to do so would be impracticable. Based on the date on which notice of construction was given, a notice and comment period could not be held before the need for the safety zone restrictions, which will go into effect March 19, 2015.

Under 5 U.S.C. 553(d)(3), the Coast Guard finds that good cause exists for making this rule effective less than 30 days after publication in the Federal Register because the work will commence and vessel movements in this area need to be restricted during the period of construction, which commences immediately.

B. Basis and Purpose

Coast Guard Captains of the Port are granted authority to establish safety zones in 33 CFR 1.05-1(f) for safety and environmental purposes as described in 33 CFR part 165.

The construction of bridges creates hazardous conditions for both the maritime public and the construction crews because of crane barges positioned within the temporary navigation channel of the river, anchor lines protruding outward from the barges, falling debris, and the suspension of heavy loads over the waterway. A safety zone is necessary to restrict vessel movement and reduce traffic going under the bridge during these critical lifts to ensure the safety of the maritime public and construction crews.

C. Discussion of the Rule

The rule establishes a Safety Zone in the Thirteenth Coast Guard District.

The safety zone created by this rule will cover all waters bank to bank of the Willamette River encompassed within chart 18528 starting at a line drawn from 45°27′57″ N/122°40′04″ W then east to 45°27′57″ N/122°39′51″ W then south to 45°27′47″ N/122°39′44″ W then west to 45°27′47″ N/122°40′04″ W then north to 45°27′57″N/122°40′04″ W.

The rule will be enforced while construction is underway. Construction is currently scheduled to take place from March 19, 2015 through 6:00 p.m. on April 2, 2015 and again starting at 7:00 a.m. on May 15, 2015 through 6:00 p.m. on May 27, 2015. The Coast Guard will notify mariners of any changes to the construction schedule and enforcement of this safety zone via a Broadcast Notice to Mariners and Local Notice to Mariners. This rule has been enforced with actual notice since March 19, 2015.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard has made this determination based on the fact that the safety zone created by this rule is small in size, and vessels may still transit through the area at a reduced speed of five miles per hour.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule may affect the following entities some of which may be small entities: the owners and operators of vessels intending to operate in the area covered by the safety zone created in this rule. The safety zone will not have a significant economic impact on a substantial number of small entities because vessels may still be able to transit a one hundred thirty eight foot span of the temporary navigation channel at the center of the river at a reduced speed when deemed safe by the Captain of the Port or his designated representative. The Coast Guard has contacted one commercial boat operator to inform them of the safety zone and discuss the potential impact of the safety zone on operations. The operator indicated that impacts on business would be minimal. Additionally, the Coast Guard ensured the construction contractor contacted the affected small business entities most likely to be impacted.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the “FOR FURTHER INFORMATION CONTACT” section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule is categorically excluded from further review under paragraph 34(g) of Figure 2-1 of the Commandant Instruction. This rule involves the establishment of a limited access area. An environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-19(g), 6.04-1, 6.04-6, and 160.5; Pub. L. 107-295, 116 Stat. 2064; Department of Homeland Security Delegation No. 0170.1.

2. Add § 165.T13-0187 to read as follows:

§ 165.T13-0187 Safety Zone; Sellwood Bridge Construction, Willamette River, Portland, OR.

(a) Safety Zone. The following area is a designated safety zone:

(1) Location. This safety zone will cover all waters bank to bank of the Willamette River encompassed within a line drawn from 45° 27′57″ N/122° 40′04″ W then east to 45° 27′57″ N/122° 39′51″ W then south to 45° 27′47″ N/122° 39′44″ W then west to 45° 27′47″ N/122° 40′04″ W then north to 45° 27′57″ N/122° 40′04″ W.

(2) Enforcement Period. This safety zone is in effect from March 19, 2015 through June 10, 2015. The rule will be enforced while in effect based on construction activity and the presence of construction equipment that create a safety risk to mariners. Based on the current construction schedule, the rule will be enforced from March 19, 2015 to 6:00 p.m. on April 2, 2015 and again starting at 7:00 a.m. on May 15, 2015 through 6:00 p.m. on May 27, 2015. The Coast Guard will inform mariners of any change to these periods of enforcement via Broadcast Notice to Mariners and Local Notice to Mariners.

(b) Regulations. In accordance with the general regulations in 33 CFR part 165, subpart C, no person may enter or remain in the safety zone created in this section or bring, cause to be brought, or allow to remain in the safety zone created in this section any vehicle, vessel, or object unless authorized by the Captain of the Port or his designated representative.

(c) Enforcement. Any Coast Guard commissioned, warrant, or petty officer may enforce the rules in this section. In the navigable waters of the United States to which this section applies, when immediate action is required and representatives of the Coast Guard are not present or are not present in sufficient force to provide effective enforcement of this section, any Federal Law Enforcement Officer or Oregon Law Enforcement Officer may enforce the rules contained in this section pursuant to 46 U.S.C. 70118. In addition, the Captain of the Port may be assisted by other federal, state, or local agencies in enforcing this section.

Dated: March 19, 2015.
D. J. Travers
Captain, U.S. Coast Guard, Captain of the Port, Sector Columbia River.

[FR Doc. 2015-07591 Filed 4-1-15; 8:45 am]

BILLING CODE 9110-04-P